DEPARTMENT OF DEFENSE

Office of the Secretary

Submission for OMB Review; Comment Request

ACTION: Notice.

The Department of Defense has submitted to OMB for clearance, the following proposal for collection of information under the provisions of the Paperwork Reduction Act (44 U.S.C. Chapter 35).

Dates: Consideration will be given to all comments received by November 17, 2004.

Title, Form, and OMB Number: Uniform Tender of Rates and/or Charges for Domestic Transportation Services (DoD/USCG Sponsored Household Goods); SDDC Form 43-R; OMB Control Number 0702-0018.

Type of Request: Reinstatement.

Number of Respondents: 1,580.

Responses Per Respondent: 4.

Annual Responses: 6,320.

Average Burden Per Response: 30 minutes.

Annual Burden Hours: 3,160.

Needs and Uses: The Department of Defense approved household goods carriers files rate to engage in the movement of DoD and United States Coast Guard sponsored shipments within the continental United Sates. The Military Surface Deployment and Distribution Command evaluates the rates and awards the traffic to low rate responsible carriers whose rates are responsive and most advantageous to the Government.

Affected Public: Business or other for-profit.

Frequency: Semi-annually.

Respondent's Obligation: Required to obtain or retain benefits.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing WHS/ESCD/Information Management Division, 1225 South Clark Street, Suite 504, Arlington, VA 22202-4326.

Dated: October 8, 2004.
Patricia L. Toppings,
Alternate OSD Federal Register Liaison Officer, Department of Defense.

[FR Doc. 04-23246 Filed 10-15-04; 8:45 am]

BILLING CODE 5001-06-M